DEPARTMENT OF HEALTH AND HUMAN SERVICES

Administration for Children and Families

[OMB Budget No. 0970-0510]

Proposed Information Collection Activity; Refugee Support Services Federal Financial Report (Standard Form-425); Supplemental Data Collection

AGENCY: Office of Refugee Resettlement, Administration for Children and Families, Department of Health and Human Services.

ACTION: Request for public comments.

SUMMARY: The Administration for Children and Families (ACF) Office of Refugee Resettlement (ORR) plans to submit a generic information collection (GenIC) request under the umbrella generic: Generic Clearance for Financial Reports used for ACF Mandatory Grant Programs (0970-0510). This request is to include instructions for ORR Refugee Support Services grant recipients to provide supplemental financial information when submitting the already required Federal Financial Report (Standard Form (SF)-425), which is approved under Office of Management and Budget (OMB) number 4040-0014.

DATES: Comments due within 14 days of publication. In compliance with the requirements of the Paperwork Reduction Act of 1995, ACF is soliciting public comment on the specific aspects of the information collection described above and below.

ADDRESSES: Copies of the proposed collection of information can be obtained and comments may be forwarded by emailing infocollection@acf.hhs.gov. All requests should be identified by the title of the information collection.

SUPPLEMENTARY INFORMATION:

Description: ACF programs require detailed financial information from their grantees that allows ACF to monitor various specialized cost categories within each program, to closely manage program activities, and to have sufficient financial information to enable periodic thorough and detailed audits. Generic Clearance for Financial Reports used for ACF Mandatory Grant Programs allows ACF programs to efficiently develop and receive approval for financial reports that are tailored to specific funding recipients and the associated needs of the program. For more information about the umbrella generic, see: https://www.reginfo.gov/public/do/PRAViewDocument?ref_nbr=202108-0970-002.

This specific GenIC request applies to all ORR Refugee Support Services grantees awarded regular base and “set-aside” funding, all funding received under the Afghanistan Supplemental Appropriation, and funds received under the Ukraine Supplemental Appropriations Act, 2022, and other appropriations as communicated. All grantees must complete reporting in accordance with Statute. Currently grantees use the SF-425 to report standard required federal expenditure data (OMB #: 4040-0014). The SF-425 requests grantees to report one cumulative amount for all expenditures. ORR is proposing to request that grantees break out expenditure data by financial account and program category/set aside by providing more detailed instructions for Box 12 of the SF-425 which designated for additional remarks. The proposed supplemental instructions will provide guidance and assist grantees with submitting the additional detail about federal expenditure data reported on the SF-245. The analysis of this data would further support adherence to program requirements.

Respondents: States, State Agency Grantee Designees.

Annual Burden Estimates
Title of information collection | Number of respondents | Annual frequency of responses | Hourly burden per response | Annual hourly burden
RSS SF-425 Supplemental Data Collection | 53 | 4 | 4 | 212

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 412(c)(1)(A) of the Immigration and Nationality Act (8 U.S.C. 1522(c)(1)(A)).

John M. Sweet, Jr.
ACF/OPRE Certifying Officer.

[FR Doc. 2023-05666 Filed 3-20-23; 8:45 am]

BILLING CODE 4184-89-P